CIVIL RIGHTS COMMISSION

Sunshine Act Meeting Notice

AGENCY: United States Commission on Civil Rights.

ACTION: Notice of Commission public business meeting.

DATES: Friday, March 22, 2019, 1:30 p.m. ET.

ADDRESSES: Place: National Place Building, 1331 Pennsylvania Ave. NW, 11th Floor, Suite 1150, Washington, DC 20425. (Entrance on F Street NW)

FOR FURTHER INFORMATION CONTACT: Brian Walch: (202) 376-8371; TTY: (202) 376-8116; publicaffairs@usccr.gov.

SUPPLEMENTARY INFORMATION: This business meeting is open to the public. There will also be a call-in line for individuals who desire to listen to the meeting and presentations: 800-682-9934, Conference ID 686-6909. The meeting will live-stream at: https://www.youtube.com/user/USCCR/videos. (Subject to change.) Persons with disabilities who need accommodation should contact Pamela Dunston at (202) 376-8105 or at access@usccr.gov at least seven (7) business days before the scheduled date of the meeting.

Meeting Agenda

I. Approval of Agenda

II. Business Meeting

A. Presentation by Rebecca Erbelding, Ph.D., United States Holocaust Memorial Museum: American Responses to the Rise of Nazism and the Refugee Crisis in the 1930s and 1940s

B. Presentation by Connecticut State Advisory Committee Chair David McGuire on the Committee's recent advisory memorandum, Solitary Confinement in Connecticut

C. Presentation by Tennessee State Advisory Committee Chair Diane Di Ianni on the Committee's recent report, The Civil Rights Implications of Tennessee's Civil Asset Forfeiture Laws and Practices

D. Presentation by Oregon State Advisory Committee Chair Thompson Faller on the Committee's recent report, Human Trafficking in Oregon

E. Discussion and vote on discovery materials for the Commission's project on sexual harassment in federal workplaces

F. Discussion and vote on statement deadlines for the Commission's project on stand your ground laws

G. Management and operations

• Staff Director's Report

III. Adjourn Meeting

Dated: March 13, 2019.
Brian Walch,
Director, Communications and Public Engagement.

[FR Doc. 2019-04963 Filed 3-13-19; 11:15 am]

BILLING CODE 6335-01-P